DEPARTMENT OF TRANSPORTATION

Federal Aviation Administration

14 CFR Part 39

[Docket No. FAA-2008-0497; Directorate Identifier 2007-NM-096-AD]

RIN 2120-AA64

Airworthiness Directives; McDonnell Douglas Model DC-8-61, DC-8-61F, DC-8-63, DC-8-63F, DC-8-71F, and DC-8-73F Airplanes

AGENCY: Federal Aviation Administration (FAA), Department of Transportation (DOT).

ACTION: Notice of proposed rulemaking (NPRM).

SUMMARY: The FAA proposes to adopt a new airworthiness directive (AD) for certain McDonnell Douglas Model DC-8-61, DC-8-61F, DC-8-63, DC-8-63F, DC-8-71F, and DC-8-73F airplanes. For certain airplanes, this proposed AD would require non-destructive testing (NDT) to detect cracks of the door jamb corners of the forward and aft service doors, and doing applicable related investigative and corrective actions. For certain other airplanes, this proposed AD would require inspecting and repairing if necessary or replacing previously repaired door jamb corners with an applicable repair. This proposed AD results from reports of numerous cases of cracks in the skin at the door jamb corners of the forward and aft service doors. We are proposing this AD to detect and correct fatigue cracking of door jamb corners of the forward and aft service doors, which could adversely affect the structural integrity of the airplane.

DATES: We must receive comments on this proposed AD by June 20, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION:

Comments Invited

We invite you to send any written relevant data, views, or arguments about this proposed AD. Send your comments to an address listed under the ADDRESSES section. Include “Docket No. FAA-2008-0497; Directorate Identifier 2007-NM-096-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of numerous cases of cracks found in the skin at the door jamb corners of forward and aft service doors, on certain McDonnell Douglas Model DC-8-61, DC-8-61F, DC-8-63, DC-8-63F, DC-8-71F, and DC-8-73F airplanes. Investigation revealed that cracks were caused by metal fatigue. Fatigue cracking of door jamb corners of the forward and aft service doors, if not detected and corrected, could adversely affect the structural integrity of the airplane.

Relevant Service Information

We have reviewed Boeing Alert Service Bulletin DC8-53A082, dated February 6, 2007. For certain airplanes, the service bulletin describes doing initial non-destructive testing (NDT) to detect cracks of the door jamb corners of the forward and aft service doors, and doing applicable related investigative and corrective actions. The applicable related investigative actions include repeating the NDT or doing repetitive inspections of the repaired door jamb corners, as applicable. The corrective actions include repairing the door jamb corners, and contacting Boeing for certain instructions, as applicable. For certain other airplanes, the service bulletin describes procedures for contacting Boeing for repair or inspection instructions or replacing previously repaired door jamb corners with an applicable repair.

The service bulletin specifies the following compliance times:

• For the initial NDT: Within 2,000 landings or 3 years, whichever occurs first.

• For repetitive NDTs or inspections: Between 532 and 11,325 landings depending on the NDT/inspection method.

• For corrective actions: Before further flight or before the repeat interval for the inspection method depending on the repair condition.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Differences Between the Proposed AD and Service Bulletin.”

Differences Between the Proposed AD and Service Bulletin

Although the service bulletin recommends that operators of airplanes identified as Group 1, Configuration 3, contact the manufacturer for repeat inspection instructions, this proposed AD would require operators to inspect and repair using a method approved by the FAA.

The service bulletin recommends that operators of airplanes identified as Group 1, Configuration 4, contact the manufacturer for instructions on how to repair certain conditions, but this proposed AD would require repairing those conditions in one of the following ways:

• Using a method that we approve; or

• Using data that meet the certification basis of the airplane, and that have been approved by an Authorized Representative for the Boeing Commercial Airplanes Delegation Option Authorization Organization whom we have authorized to make those findings.

Costs of Compliance

There are about 299 airplanes of the affected design in the worldwide fleet. This proposed AD would affect about 55 airplanes of U.S. registry. The proposed testing would take about 1 work-hour per airplane, at an average labor rate of $80 per work-hour. Based on these figures, the estimated cost of the proposed AD for U.S. operators is $4,400, or $80 per airplane, per testing cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

McDonnell Douglas: Docket No. FAA-2008-0497; Directorate Identifier 2007-NM-096-AD.

Comments Due Date

(a) The FAA must receive comments on this AD action by June 20, 2008.

Affected ADs

(b) As specified in paragraph (g) of this AD, this AD affects certain requirements of AD 93-01-15, amendment 39-8469.

Applicability

(c) This AD applies to McDonnell Douglas Model DC-8-61, DC-8-61F, DC-8-63, DC-8-63F, DC-8-71F, and DC-8-73F airplanes, certificated in any category; as identified in Boeing Alert Service Bulletin DC8-53A082, dated February 6, 2007.

Unsafe Condition

(d) This AD results from reports of numerous cases of cracks in the skin at the door jamb corners of forward and aft service doors. We are issuing this AD to detect and correct fatigue cracking of door jamb corners of the forward and aft service doors, which could adversely affect the structural integrity of the airplane.

Compliance

(e) You are responsible for having the actions required by this AD performed within the compliance times specified, unless the actions have already been done.

Testing, Inspecting, Repairing, and Related Investigative and Corrective Actions

(f) At the applicable compliance time and repeat intervals listed in Tables 1 through 5 inclusive of paragraph 1.E., “Compliance,” of Boeing Alert Service Bulletin DC8-53A082, dated February 6, 2007; except where the service bulletin specifies a compliance time after the date on the service bulletin, this AD requires compliance within the specified compliance time after the effective date of this AD: Do the actions specified in paragraph (f)(1), (f)(2), or (f)(3) of this AD, as applicable.

(1) For airplanes identified as Group 1, Configurations 1 and 2, in the service bulletin: Do the testing and related investigative and corrective actions by accomplishing all the applicable actions specified in the Accomplishment Instructions of the service bulletin.

(2) For airplanes identified as Group 1, Configuration 3, in the service bulletin: Inspect and repair discrepancies in accordance with a method approved by the Manager, Los Angeles Aircraft Certification Office (ACO), FAA.

(3) For airplanes identified as Group 1, Configuration 4, in the service bulletin: Do the actions specified in paragraph (f)(3)(i) or (f)(3)(ii) of this AD.

(i) Repair door jamb corners of the service door using a method approved in accordance with the procedures specified in paragraph (h) of this AD.

(ii) Replace the previously repaired door jamb corners with an applicable repair in accordance with the Accomplishment Instructions of the service bulletin.

Compliance With Certain Requirements of AD 93-01-15

(g) Accomplishment of the applicable actions required by paragraph (f) of this AD constitutes compliance with certain requirements of AD 93-01-15, as it pertains to the affected areas of principal structural elements 53.08.039 and 53.08.040 of McDonnell Douglas DC-8 Supplemental Inspection Document, dated December 1985.

Alternative Methods of Compliance (AMOCs)

(h)(1) The Manager, Los Angeles ACO has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Los Angeles ACO, to make those findings. For a repair method to be approved, the repair must meet the certification basis of the airplane and 14 CFR 25.571, Amendment 45, and the approval must specifically refer to this AD.

Issued in Renton, Washington, on April 23, 2008.
Ali Bahrami,
Manager, Transport Airplane Directorate, Aircraft Certification Service.

[FR Doc. E8-9883 Filed 5-5-08; 8:45 am]

BILLING CODE 4910-13-P